FEDERAL DEPOSIT INSURANCE CORPORATION

Agency Information Collection Activities: Proposed Information Collection; Comment Request

AGENCY: Federal Deposit Insurance Corporation (FDIC).

ACTION: Notice and request for comment.

SUMMARY: In accordance with the Paperwork Reduction Act of 1995, an agency may not conduct or sponsor, and the respondent is not required to respond to, an information collection unless it displays a currently valid Office of Management and Budget (OMB) control number. The FDIC is contemplating initiating a survey relating to large-bank deposit insurance account systems. Institutions with the largest number of deposit accounts would be asked to provide information about their deposit account systems to the FDIC. The FDIC is exploring new methods to modernize its deposit insurance determination process, whereby the insurance status of each depositor is determined in the event of failure, and information collected through the survey would be used to facilitate those efforts.

DATES: Comments must be submitted on or before November 23, 2007.

ADDRESSES: You may submit comments by any of the following methods:

• Agency Web Site: http://www.fdic.gov/regulations/laws/federal. Follow instructions for submitting comments on the Agency Web Site.

• E-mail: Comments@FDIC.gov.

• Mail: Leneta Gregorie, Legal Division, Attention: Comments, Federal Deposit Insurance Corporation, 550 17th Street, NW., Washington, DC 20429.

• Hand Delivery/Courier: Guard station at the rear of the 550 17th Street Building (located on F Street) on business days between 7 a.m. and 5 p.m. (EST).

All comments should refer to “Survey of Large-Bank Deposit Insurance Programs.” Copies of comments may also be submitted to the OMB desk officer for the FDIC, Office of Information and Regulatory Affairs, Office of Management and Budget, New Executive Office Building, Washington, DC 20503.

Public Inspection: All comments received will be posted without change to http://www.fdic.gov/regulations/laws/federal including any personal information provided. Comments may be inspected and photocopied in the FDIC Public Information Center, 3501 North Fairfax Drive, Room E-1002, Arlington, VA 22226, between 9 a.m. and 5 p.m. (EST) on business days. Paper copies of public comments may be ordered from the Public Information Center by telephone at (877) 275-3342 or (703) 562-2200.

FOR FURTHER INFORMATION CONTACT: Interested members of the public may obtain additional information about the collection by contacting Leneta Gregorie at the address identified above or by calling 202-898-3719.

SUPPLEMENTARY INFORMATION: Proposal to seek OMB approval for the following new collection of information:

Title: Survey of Large-Bank Deposit Insurance Programs.

OMB Number: New collection (3064-xxxx).

Frequency of Response: One-time.

Affected Public: Insured depository institutions with over 250,000 deposit accounts and total deposit domestic accounts of at least $2 billion, and institutions with total assets over $20 billion with less than 250,000 deposit accounts and total domestic deposits of at least $2 billion.

Estimated Number of Respondents: 159.

Estimated Time per Response: Estimated average of 16 hours per respondent.

Estimated Total Annual Burden: 159 respondents times 16 hours per respondent = 2544 hours.

General Description of Collection

In view of the significant industry consolidation in recent years, the FDIC is exploring new methods to modernize the process to determine the insurance status of each depositor in the event of a depository institution failure. The FDIC's current procedures to determine deposit insurance coverage may result in unacceptable delays if used for an FDIC insured institution with a large volume of deposit accounts. In developing a new system to determine insurance coverage, the FDIC's goals are to minimize disruption to depositors and communities, and maximize recoveries for the deposit insurance fund in the event one of the largest insured institutions should fail. On December 13, 2005, the FDIC published in the Federal Register for a 90-day comment period, an advance notice of proposed rulemaking (“ANPR”) seeking public comment on the best means to accomplish these objectives. 70 FR 73652 (Dec. 13, 2005). On December 13, 2006, the FDIC published a follow-up ANPR seeking further comment on whether and how the largest insured depository institutions should be required to modify their deposit account systems to speed depositor access to funds in the event of failure. 71 FR 74857 (Dec. 13, 2006). The proposed survey is designed to help the FDIC better understand the deposit account systems used by the largest banks. The proposed collection and instructions, in its current form, are set forth in Appendix A.

The focus of the survey is on FDIC-insured institutions with complex deposit systems. These include those institutions with the largest volume of deposit accounts, currently expected to include 152 insured institutions with over 250,000 deposit accounts and total domestic deposits of at least $2 billion, as well as seven additional institutions with total assets over $20 billion, with less than 250,000 deposit accounts and total domestic deposits of at least $2 billion (“Covered Institutions”).

The preferred method for collecting the data is through electronic submission in order to minimize burden on respondents. The study will conform to privacy rules and will not request any information that could be used to identify individual bank customers, such as name, address, or account number. All data from participating insured institutions will remain confidential. It is the intent of the FDIC to publish only general findings of the study.

Request for Comment

Comments are invited on: (a) Whether the collection of information is necessary for the proper performance of the FDIC's functions, including whether the information has practical utility; (b) the accuracy of the estimates of the burden of the information collection; (c) ways to enhance the quality, utility, and clarity of the information to be collected; (d) ways to minimize the burden of the information collection on respondents, including through the use of automated collection techniques or other forms of information technology; and (e) estimates of capital or start-up costs, and costs of operation, maintenance and purchase of services to provide the information.

Appendix A—Proposed Collection and Instructions Covered Institution Questionnaire

Instructions. The purpose of this task is to help the FDIC further its understanding of banks covered by the Advance Notice of Proposed Rulemaking (ANPR). This information will be used to draft detailed technical requirements for the Notice of Proposed Rulemaking (NPR) setting forth the requirements (data and operational) with which covered banks must comply.

The questionnaire consists of five sections. Please ask the most knowledgeable person or particular section in your institution to answer these questions. Please record the time in minutes for you to complete each question. This will provide the FDIC with the time required to complete this questionnaire.

Goal 1: Identification of Account Ownership. The purpose is to ensure that the covered institutions can uniquely identify ALL owners and beneficiaries for each account maintained by the institution. When asked by the FDIC, the institution must be able to articulate how accounts are uniquely identified.

1. Does your institution have the means to identify the following roles involved in each deposit account?

| Yes | No
a. Owners |  |
b. Beneficiaries |  |
c. Non-Owners |  |

2. If your institution can identify the roles involved in a deposit account, does this identification occur through a single data field or through multiple data fields?

a. Single

b. Multiple

3. Does your institution have a means of differentiating between SSN and TIN at the account level?

a. Yes

b. No

4. Does your institution maintain SSN/TIN for all the names on a deposit account?

| Yes | No
a. Owners |  |
b. Beneficiaries |  |
c. Non-Owners |  |

5. What percentage of your deposit accounts contains a SSN/TIN for all account owners?

6. Does your institution maintain separate fields for account titles and account addresses?

a. Yes

b. No

7. If your answer to Question 6 is Yes, please provide the number of fields and the field length (characters)?

| Number of fields | Field length
a. Account Title |  |
b. Account Address |  |

8. Are multiple address fields maintained for each deposit account? For example, residence mailing or seasonal.

a. Yes

b. No

If Yes, how many?

9. Does the account title contain key words/phrases that identify all the roles involved in the account?

| Yes | No
a. Owners |  |
b. Beneficiaries |  |
c. Non-Owners |  |

Goal 2: FDIC Insurance Determination. The purpose is to ensure that the institution can provide account-level information that the FDIC can use to establish its insurance categories.

1. Does your institution maintain codes that identify the following type of accounts?

| Yes | No
a. Single |  |
b. Joint |  |
c. Business |  |
d. IRA (include Roth IRA, self-directed Keoghs, and traditional IRAs) |  |
e. Single ITF (e.g., Payable on Death and In Trust For accounts) |  |
f. Single LIV (Revocable Living Trust account) |  |
g. Department of Energy |  |
h. Business Escrow |  |
i. Government |  |
j. Irrevocable Trust |  |
k. Bureau of Indian Affairs |  |
l. Bank Owned |  |
m. Brokerage |  |
n. Employee Benefit Plan |  |

2. Does your institution maintain account-level product categories/product types?

| Yes | No
a. DDA (Non-Interest Bearing Checking Accounts) |  |
b. NOW (Interest Bearing Checking Accounts) |  |
c. MMA (Money Market Accounts) |  |
d. SAV (Savings Accounts and Money Market Savings Accounts) |  |
e. CDS (Time Deposit Accounts and Certificate of Deposit Accounts) |  |
f. REP (Repurchase Agreements) |  |

3. Does your institution maintain deposit class types?

| Yes | No
a. RTL (Retail)
b. FED (Federal)
c. STATE (State)
d. COMM (Commercial)
e. CORP (Corporate)
f. BANK ( Bank Owned)
g. DUE TO (Other Banks)

4. Does your institution maintain deposit class codes for the following categories?

| Yes | No
a. Retail RTL deposit class valid code values are:
1. Payable on Death
2. Individual
3. Trust
4. Estate
5. Attorney in Fact
6. Minor (UTMA)
7. Minor (UGMA)
8. Bankruptcy Personal
9. Pre-Need Burial
10. Escrow
11. Representative
12. Payee/Beneficiary
13. Joint
14. Non-Minor Custodian
15. Non-Minor Guardian
16. Other Retail
b. STATE valid values are:
17. City
18. State
19. County, Clerk of Court
20. Other State
c. Commercial:
21. Business Escrow
22. Business DBA
23. Bankruptcy
24. Proprietorship
25. Club
26. Church
27. Unincorporated Association
28. Unincorporated Non-Profit
29. Other Commercial
d. Corporation:
30. Business Trust
31. Business Agent
32. Business Guardian
33. Incorporated Association
34. Incorporated Non-Profit
35. Corporation
36. Corporate Partnership
37. Corporate Partnership Trust
38. Corporate Agent
39. Corporate Guardian
40. Pre-Need Funeral Trust
41. Limited Liability Incorporation
42. LLC Partnership
43. Lawyer Trust
44. Realtor Trust
e. DUE TO ( Other Banks):
45. Due to U.S. Banks
46. Due to U.S. Branches of Foreign Banks
47. Due to Other Deposit Institutions
48. Due to Foreign Banks
49. Due to Foreign Branches of U.S. Banks
50. Due to Foreign Governments and Official Institutions
f. Bank:
51. Certified and Official Checks
52. ATM Settlement
53. Other Bank User
g. FED:
54. FHA
55. Federal

Goal 3: Hold Processing. The purpose is to ensure that the institution can apply monetary and non-monetary transactions to accounts en masse.

1. Does your institution support the following types of holds?

| Yes | Length of hold | No
a. Temporary Holds
b. Term Holds
c. Partial Holds

2. Can your institution support the ability to move between temporary holds and term holds?

a. Yes

b. No

3. Does your institution have the ability to place holds on all product types?

a. Yes

b. No

4. How does a hold affect the end-of-day schedule processing cycle?

Goal 4: Processing Segmentation. The purpose is to ensure that the institution has data segmentation that can assist the FDIC in streamline its process.

1. Does your institution maintain separate applications for the following major types of accounts?

| Yes | No
a. Brokerage/Escrow Accounts
b. IRA Accounts
c. Business Accounts
d. Trust

2. What is the total number of the following types of accounts maintained by your deposit system(s)?

| Total number of accounts
a. Active Accounts
b. Dormant Accounts
c. Accounts with Zero Average Daily Balance

3. Provide the number of accounts for each of the following dollar range.

| Total number of accounts
a. $5,000 or less
b. 5,000<$<=50,000
c. 50,000<$<=100,000
d. 100,000<$<=250,000
e. Greater than $250,000

Goal 5: Miscellaneous Data Collection. This information will be used to help the FDIC streamline its insurance determination processes.

1. How are the official items drawn on your bank handled (i.e., are official items drawn on your bank, paid through your bank, and processed by your bank)?

If not, what is your method?

2. For official items processed by your institution, are the following elements of information captured and maintained electronically?

| Yes | No
a. Check Number |  |
b. Check Amount |  |
c. Payee |  |
d. Date of Issue |  |

3. What is the typical daily volume of official items processed by your institution? Please specify—

| Number of items | Total dollar amount
a. Cashier checks |  |
b. Interest checks |  |
c. Bank Money Orders |  |
d. Expense checks |  |
e. Loan Disbursements |  |
f. Other checks |  |

4. Do the account numbers appear on interest checks processed daily by your institution?

a. Yes

b. No

5. Does your institution have an up-to-date data dictionary?

| Yes | No
a. Documenting all fields |  |
b. Documenting the meaning of all codes |  |

6. Does the Institution have an automated process in place to ensure integrity of the following:

| Yes | No
a. The linkage of roles is maintained between CIF and DIF records |  |
b. All product codes are properly maintained |  |

7. Does the Institution use data quality tools (ETL) to integrate legacy data during a merger process?

a. Yes

b. No

8. Which of the following occurs during the acquisition process?

| Yes | No
a. Legacy data is cleansed |  |
b. All roles are converted to the resulting institution codes |  |
c. All roles are established and CIF records are created for all deposit records |  |

Dated at Washington, DC, this 15th day of September, 2007.
Federal Deposit Insurance Corporation.
Robert Feldman,
Executive Secretary.

[FR Doc. E7-18735 Filed 9-21-07; 8:45 am]

BILLING CODE 6714-01-P